DEPARTMENT OF DEFENSE

Department of the Army; Corps of Engineers

Meeting of the Chief of Engineers Environmental Advisory Board

AGENCY: Department of the Army, U.S. Army Corps of Engineers, DoD.

ACTION: Notice of open Advisory Board meeting.

SUMMARY: The Department of Defense is publishing this notice to announce the following Federal advisory committee meeting of the Chief of Engineers Environmental Advisory Board (“EAB”). This meeting will be open to the public. For more information about the EAB, please visit http://www.usace.army.mil/Missions/Environmental/EnvironmentalAdvisoryBoard.aspx.

DATES: The meeting will be held Thursday, June 12, 2014, from 8:30 a.m. through 12:00 p.m.

ADDRESSES: Gridley Conference Room, New England District, US Army Corps of Engineers, 696 Virginia Road, Concord, MA 01742. Room changes or delays will be posted to the EAB's Web site if time allows.

FOR FURTHER INFORMATION CONTACT: Mr. John C. Furry, Designated Federal Officer (DFO) for the Chief of Engineers Environmental Advisory Board, Room 3-I-23, 441 G Street NW., Washington DC 20314-1000. Email: john.c.furry@usace.army.mil. Desk Phone: (202) 761-5875. Mobile Phone: (202) 450-8958.

Media or other persons interested in photographing or taping the meeting should first contact Mr. Bill Hubbard at 978-318-8552 no later than five working days prior to the meeting.

SUPPLEMENTARY INFORMATION: This meeting is being held under provisions of the Federal Advisory Committee Act (FACA) of 1972 (5 U.S.C., Appendix, as amended), the Government in the Sunshine Act of 1976 (5 U.S.C. 552b, as amended), and 41 CFR 102-3.150.

Purpose of the Meeting and Agenda: The Board will advise the Chief of Engineers on environmental policy, identification and resolution of environmental issues and missions, and addressing challenges, problems and opportunities in an environmentally sustainable manner. Discussions among board members and presentations will include issues related to dam release management and its sustainable downstream ecosystem effects, procedures for small private dam removal, basin-wide operations planning, outreach for science, technology, engineering, and mathematics (STEM) students, long-term infrastructure management, and developing effective partnerships with federal, state, tribal, and local stakeholders. The Board will also briefly discuss recent site visits and completed letter reports. Following Board discussions and presentations there will be a public comment period.

Public Accessibility to the Meeting: Pursuant to 5 U.S.C. 552b, as amended, and 41 CFR 102-3.140 through 102-3.165, and the availability of space, this meeting will be open to the public. The building and meeting room are accessible to persons with disabilities. Security screening is required. Anyone attending the meeting must enter and exit at the front gate. Guards at the gate will direct attendees to the conference area. Attendees must present a valid form of government issued photo identification (e.g., drivers license, state issued photo ID, or passport), and pass through the security screening station. Wheelchair access is available at the main building entrance. All visitors must be escorted by an employee of the Corps of Engineers while in the building. Escorts will be located in the building security screening area. Attendees need to arrive in time to complete the security screening and arrive at the meeting room before 8:15 a.m. Seating will be limited and on a first-come basis. Free parking is available onsite.

Written Comments: Pursuant to 41 CFR 102-3.105(j) and 102-3.140 and section 10(a)(3) of FACA, the public or interested organizations may submit written comments to the EAB in response to the stated agenda of the open meeting or the EAB's mission in general. Written comments or statements should be submitted to Mr. John Furry, the EAB's DFO, via electronic mail or the U.S. Postal Service, at the addresses listed in the FOR FURTHER INFORMATION CONTACT section. Each page of the comment or statement must include the author's name, title or affiliation, address, and daytime phone number. Written comments or statements must be received no later than five working days prior to the meeting in order to allow time for the Board's consideration. The DFO will review all timely submitted written comments or statements with the Board's Chairperson, and ensure that the comments are provided to all members of the Board before the meeting. Written comments or statements received after this date may not be provided to the Board until its next meeting.

Oral Comments: The primary purpose of this meeting is for the Chief of Engineers to receive the views of the EAB. As such no member of the public will be allowed to present questions from the floor or speak to any issue under consideration during the deliberative portion of the meeting. However, up to thirty minutes will be set aside in the agenda for public comment. Anyone who wishes to speak must register prior to the start of the meeting and indicate their desire to address the EAB. Members of the public who have registered and indicated they want to make a verbal comment will be invited to speak in the order in which their requests were received. Each statement will be limited to not more than 3 minutes. All submitted comments and public presentations will be treated as public documents and may be made available for public inspection, including, but not limited to, being posted on the EAB's Web site.

Registration: Individuals who wish to attend the meeting on June 12, 2014 are strongly encouraged to register by 1:00 p.m. on Monday, June 9, 2014 with the DFO, using the electronic mail contact information found in the FOR FURTHER INFORMATION CONTACT section. The communication should include the registrant's full name, title, affiliation or employer, email address, and daytime phone number. If applicable, registration should indicate the attendee's desire to make verbal comments. Registration will also be allowed near the meeting room entrance from 8:00 until 8:15 a.m.

Brenda S. Bowen,
Army Federal Register Liaison Officer.

[FR Doc. 2014-11772 Filed 5-20-14; 8:45 am]

BILLING CODE 3720-58-P